DEPARTMENT OF TRANSPORTATION

Federal Highway Administration

Final Environmental Impact Statement; Summit County, CO

AGENCY: Federal Highway Administration (FHWA), DOT.

ACTION: Notice of availability.

SUMMARY: In compliance with the National Environmental Policy Act of 1969, the FHWA, in cooperation with the Colorado Department of Transportation (CDOT), has prepared a Final Environmental Impact Statement (EIS) for proposed transportation improvements to State Highway 9, Frisco to Breckenridge in Summit County, Colorado. The Final EIS identifies the Preferred Alternative and associated social, economic and environmental impacts. Interested citizens are invited to review the Final EIS and submit comments. Copies of the Final EIS may be obtained by telephoning or writing the contact persons listed below under the For Further Information Contact section below. Public reading copies of the Final EIS are available at the locations listed under SUPPLEMENTARY INFORMATION.

DATES: A 30-calendar-day public review period will begin on March 19, 2004, and conclude on April 19, 2004. Written comments on the Preferred Alternative and impacts to be considered must be received by CDOT by April 19, 2004. A public hearing to receive oral comments on the Final EIS will be held at the Summit High School on April 7, 2004.

ADDRESSES: Written comments on the Final EIS should be addressed to Ms. Jill Schlafer, Project Manager, Colorado Department of Transportation, Region 1, 18500 East Colfax Avenue, Aurora, CO 80011. Ms. Schlaefer's e-mail address is jill. schlaefer@dot.state.co.us. Copies of the Final EIS are available for public inspection and review at the locations provided in the Supplementary Information section below.

FOR FURTHER INFORMATION CONTACT: To request copies of the Final EIS or for additional information, contact: Mr. Scott Sands, FHWA, Colorado Division, 555 Zang Street, Room 250, Lakewood, CO 80228, Telephone: (303) 969-6730 extension 362; or Ms. Jill Schlaefer, Colorado Department of Transportation, Region 1, 18500 East Colfax Avenue, Aurora, CO 80011, Telephone: (303) 757-9655.

SUPPLEMENTARY INFORMATION:

Hearing Date and Location

Wednesday, April 7, 2004, 4 p.m. to 6:30 p.m. at Summit High School.

Copies of the Final EIS are available in hard copy format for public inspection at:

• CDOT Headquarters, Public Information Offices, 4201 Arkansas St., Room 277, Denver, CO 80222, 303-757-9228.

• CDOT Region 1, 18500 E Colfax Avenue, Aurora, CO 80011, 303-757-9371

• CDOT Office of Environmental Programs, 1325 South Colorado Boulevard, Suite B400, Denver, CO 80222, 303-757-9259

• Summit County Engineering Department, 37 County Rd. 1005, Frisco, CO 80443, 970-668-4200

• Town of Breckenridge Engineering Department, 150 Ski Hill Rd., Breckenridge, CO 80424, 970-547-3191

• Town of Frisco Town Clerk, 1 Main St. Frisco, CO 80443, 970-668-5276

• Summit County Library—Frisco Branch, 37 County Rd. 1005, Frisco, CO 80443, 970-668-5555

• Summit County Library—Breckenridge Branch, 504 Airport Rd., Breckenridge, CO 80424, 970-453-6098

• CDOT Mountain Residency Office, west side of Eisenhower Tunnel at I-70, Silverthorne, CO 80498, 303-512-5750

• Federal Highway Administration, Colorado Division Office, 555 Zang Street, Room 250, Lakewood, CO 80228, 303-969-6730 extension 362

Background

The Final EIS identifies and describes the components and mitigation measures for the Preferred Alternative (a four-lane reduced median roadway) for the proposed transportation improvements for SH 9 between Breckenridge and Frisco. The study area lies within Summit County, Colorado and extends approximately 14.5 kilometers (9 miles) from the northern end of Frisco at approximate milepost 97 to the southern limit of Breckenridge at approximate milepost 85. The Final EIS includes a description of the selection process, the components of the Preferred Alternative, a summary floodplain encroachment, a Wetland Finding, mitigation measures for the Preferred Alternative, the Final Section 4(f) Evaluation, and comments and responses received on the Draft EIS. Four build alternatives and a No-Action Alternative were assessed in the Draft EIS with the Final EIS identifying the Preferred Alternative (DEIS Alternative 3).

The Preferred Alternative includes four through-lanes with a reduced median and shoulders, and either a depressed rural median, a raised median, or a barrier-protected median, shoulder improvements, and intersection improvements. Also included is a roundabout at the North Park Avenue and Main Street intersection and the redesignation of SH 9 from Main Street to Park Avenue in Breckenridge. Other components of the Preferred Alternative include transit improvements, such as bus queue jumping, TDM elements, improved pedestrian and bicycle facilities, drainage improvements, retaining walls, lighting, and landscaping.

The FHWA, CDOT, and other local agencies invite interested individuals, organizations, and Federal, State, and local agencies to comment on the social, economic, or environmental impacts and mitigation measures related to the Preferred Alternative.

Issued on: March 9, 2004.
Douglas Bennett,
Assistant Division Administrator, Federal Highway Administration, Lakewood, Colorado.

[FR Doc. 04-5844 Filed 3-18-04; 8:45 am]

BILLING CODE 4910-22-M